DEPARTMENT OF AGRICULTURE

Forest Service

Notice of Resource Advisory Committee Meeting

AGENCY: Lassen Resource Advisory Committee, Susanville, California, Forest Service, USDA.

ACTION: Notice of meeting.

SUMMARY: Pursuant to the authorities in the Federal Advisory Committees Act (Pub. L. 92-463) and under the Secure Rural Schools and Community Self-Determination Act of 2000 (Pub. L. 106-393) the Lassen National Forest's Lassen County Resource Advisory Committee will meet Thursday, November 14, 2002 in Susanville, California for a business meeting. The meetings are open to the public.

SUPPLEMENTARY INFORMATION: The business meeting November 14th begins at 9 a.m., at the Lassen Forest Headquarters Office, Caribou Conference Room, 2550 Riverside Drive, Susanville, CA 96130. Agenda topics will include: Review of Review minutes and finish presentation of certificates RAC member/sub-committee reports. Workshop Date Discussion, review Media Fax list for Grant Notification, and Example Proposals for review. Subcommittee Reports, Overhead Costs, meeting munchies costs, etc. Proxy votes and absent voting members. Meeting date discussion possible change to 2nd Thursday each month. Develop Lassen County RAC project submittal process. Time will also be set aside for public comments at the end of the meeting.

FOR FURTHER INFORMATION CONTACT: Robert Andrews, Eagle Lake District Ranger and Designated Federal Officer, at (530) 257-4188; or RAC Coordinator, Heidi Perry, at (530) 252-6604.

Edward C. Cole,
Forest Supervisor.

[FR Doc. 02-28616 Filed 11-8-02; 8:45 am]

BILLING CODE 3410-11-M